Presidential Determination No. 2004-11 of December 8, 2003

Determination Consistent with Section 620(q) of the Foreign Assistance Act of 1961, as amended, and Section 512 of the FY 2002 and 2003 Foreign Operations, Export Financing, and Related Programs Appropriations Acts

Memorandum for the Secretary of State[,] the Secretary of the Treasury[,] the Secretary of Defense[, and] the Administrator, U.S. Agency for International Development

Consistent with the authority vested in me by section 620(q) of the Foreign Assistance Act of 1961, as amended, (22 U.S.C. 2370) and section 512 of the FY 2002 and 2003 Foreign Operations, Export Financing, and Related Programs Appropriations Acts, (Public Law 107-115 and Public Law 108-7), I hereby determine that the furnishing of assistance to Liberia is in the national interest of the United States and waive, with respect to that country, the application of section 620(q) of the Foreign Assistance Act and section 512 of the FY 2002 and 2003 Foreign Operations, Export Financing, and Related Programs Appropriations Acts.

The Secretary of State is authorized and directed to report this determination to the Congress and to arrange for its publication in the Federal Register.

B

THE WHITE HOUSE,

Washington, December 8, 2003.

[FR Doc. 03-31590

Filed 12-22-03; 8:45 am]

Billing code 4710-10-P